DEPARTMENT OF DEFENSE

Department of the Army

32 CFR Part 655

[Docket No. USA-2008-0001]

RIN 0702-AA58

Radiation Sources on Army Land

AGENCY: Department of the Army, DoD.

ACTION: Final rule.

SUMMARY: The Department of the Army is finalizing revisions to its regulation concerning radiation sources on Army land. The Army requires non-Army agencies (including their civilian contractors) to obtain an Army Radiation Permit (ARP) from the garrison commander to use, store, or possess ionizing radiation sources on an Army installation. For the purpose of this rule, “ionizing radiation source” means any source that, if held or owned by an Army organization, would require a specific Nuclear Regulatory Commission (NRC) license or Army Radiation Authorization (ARA). The purpose of the ARP is to protect the public, civilian employees, and military personnel on an installation from potential exposure to radioactive sources. The U.S. Army Safety Office, which is the proponent for the Army Radiation Safety Program, is finalizing revisions to the regulation to reflect the NRC changes to licensing of Naturally-Occurring and Accelerator-Produced Radioactive Material (NARM). Executive Order 12866 Regulatory Planning and Review was followed to rewrite this rule.

DATES: Effective date: March 10, 2011.

ADDRESSES: Director of Army Safety, 2221 S. Clarke Street, Suite 1107, Arlington, VA 22202.

FOR FURTHER INFORMATION CONTACT: Tim Mikulski, (703) 601-2408.

SUPPLEMENTARY INFORMATION:

A. Background

In the April 14, 2010, issue of the Federal Register (75 FR 19302), the Army issued a proposed rule to revise 32 CFR part 655. The revised rule reflects the rule created by the NRC on October 1, 2007 (72 FR 55864) that became effective on November 30, 2007.

The Army received no comments on its proposed rule. Two individuals sought additional information on the rule. One asked how the rule affected the Army radiation safety program. The Army explained that the changes to the rule are being made to reflect changes in the NRC rule. The second individual wanted to know if the rule covered radon. The Army explained that the rule does not cover radon.

The final rule corrects one typographical error in the Authority section of 32 CFR part 655, citing to 10 U.S.C. 3013. The Army has made a number of administrative changes to the proposed rule to apply uniform terminology, insert cross-references to definitions in the NRC rules, and otherwise improve the language without making substantive changes to the proposed rule, and is finalizing the rule as revised.

B. Regulatory Flexibility Act

The Army has certified that the rule will not have a significant economic impact on a substantial number of small entities because the rule imposes no additional costs. The Army received no comments from small entities on the proposed rule.

C. Unfunded Mandates Reform Act

The Department of the Army has determined that the Unfunded Mandates Reform Act does not apply because the rule does not include a mandate that may result in estimated costs to State, local, or tribal governments in the aggregate, or the private sector, of $100 million or more.

D. National Environmental Policy Act

The Army has determined that this is not a major federal action significantly affecting the human environment.

E. Paperwork Reduction Act

Section 655.10(e) of this rule contains information collection requirements. The OMB Control number is 0702-0109, “Letter Permit for Non-Army Agency Radiation Sources on Army Land.” The Army received no comments on the proposed information collection requirements.

F. Executive Order 12630 (Government Actions and Interference With Constitutionally Protected Property Rights)

The Department of the Army has determined that Executive Order 12630 does not apply because the rule does not impair private property rights.

G. Executive Order 12866 (Regulatory Planning and Review)

The Department of the Army has determined that according to the criteria defined in Executive Order 12866 this rule is a significant regulatory action. As such, the rule was subject to Office of Management and Budget review under section 6(a)(3) of the Executive Order.

H. Executive Order 13045 (Protection of Children From Environmental Health Risks and Safety Risks)

The Department of the Army has determined that according to section 2-202 of Executive Order 13045 this rule is not a covered regulatory action to which Executive Order 13045 applies nor will this rule present environmental health risks or safety risks that will disproportionately affect children.

I. Executive Order 13132 (Federalism)

The Department of the Army has determined that this rule will not have a substantial effect on the States, on the relationship between the national government and the States, or on the distribution of power and responsibilities among the various levels of government.

William T. Wolf,
Brigadier General, U.S. Army, Director of Army Safety.

List of Subjects in 32 CFR Part 655

Environmental protection, Radiation protection.

For reasons stated in the preamble the Department of the Army revises 32 CFR part 655 to read as follows:

PART 655—RADIATION SOURCES ON ARMY LAND

Authority: 10 U.S.C. 3013.

§ 655.10 Oversight of radiation sources brought on Army land by non-Army entities (AR 385-10).

(a) As used in this section:

Agreement State has the same meaning as provided in 10 CFR 30.4.

Byproduct material has the same meaning as provided in 10 CFR 20.1003.

Radiation has the same meaning as provided in 10 CFR 20.1003.

Radioactive material includes byproduct material, source material, and special nuclear material.

Source material has the same meaning as provided in 10 CFR 20.1003.

Special nuclear material has the same meaning as provided in 10 CFR 20.1003.

(b) Army radiation permits are required for use, storage, or possession of ionizing radiation sources by non-Army entities (including their civilian contractors) on an Army installation. Such use, storage, or possession of ionizing radiation sources must be in connection with an activity of the Department of Defense or in connection with a service to be performed on the installation for the benefit of the Department of Defense, in accordance with 10 U.S.C. 2692(b)(1). Approval by the garrison commander is required to obtain an Army radiation permit. For the purposes of this section, an ionizing radiation source is:

(1) Radioactive material used, stored, or possessed under the authority of a specific license issued by the Nuclear Regulatory Commission (NRC) or an Agreement State (10 CFR parts 30, 40, and 70 or the equivalent regulations of an Agreement State); or

(2) A machine-produced ionizing radiation source capable of producing an area, accessible to individuals, in which radiation levels could result in an individual receiving a dose equivalent in excess of 0.1 rem (1 mSv) in 1 hour at 30 centimeters from the ionizing radiation source or from any surface that the radiation penetrates.

(c) A permit is not required for non-Army entities (including their civilian contractors) that use Army licensed radioactive material on an Army installation in coordination with the Army NRC licensee. The non-Army entity must obtain permission from the Army NRC licensee to use the radioactive materials and be in compliance with all of the Army NRC license conditions prior to beginning work on Army land.

(d) Other Military Departments are exempt from the requirement of paragraph (b) of this section to obtain an Army radiation permit; however, the garrison Radiation Safety Officer (RSO) must be notified prior to ionizing radiation sources being brought onto the installation.

(e) Applicants will apply for an Army radiation permit by letter with supporting documentation (paragraph (f) of this section) to the garrison commander through the appropriate tenant commander or garrison director. Submit the letter so that the garrison commander receives the application at least 30 calendar days before the requested effective date of the permit.

(f) The Army radiation permit application will include a proposed effective date and duration (not to exceed 12 months) for the Army radiation permit and describe the purposes for which the ionizing radiation source will be used. The application will include: Identification of the trained operating personnel who will be responsible for implementation of the activities authorized by the permit and a summary of their professional qualifications; the applicant's point-of-contact name and phone number; the applicant's radiation safety Standing Operating Procedures (SOPs); storage provisions when the ionizing radiation source is not in use; and procedures for notifying the garrison of reportable incidents/accidents.

(g) The garrison commander may approve the application only if the applicant provides evidence to show that one of the following is true:

(1) The applicant possesses a valid NRC license or Department of Energy (DOE) radiological work permit that allows the applicant to use the ionizing radiation source in the manner requested in the Army radiation permit application;

(2) The applicant possesses a valid Agreement State license that allows the applicant to use the ionizing radiation source in the manner requested in the Army radiation permit application. An applicant operating in areas subject to exclusive Federal jurisdiction (Agreement States Letter SP-96-022) has to file a NRC Form-241, Report of Proposed Activities in Non-Agreement States, with the NRC in accordance with 10 CFR 150.20(b);

(3) For machine-produced ionizing radiation sources, the applicant has an appropriate State authorization that allows the applicant to use the ionizing radiation source as requested in the Army radiation permit application and has in place a radiation safety program that complies with applicable Army regulations; or

(4) For installations outside of the United States, the applicant has an appropriate host-nation authorization as necessary that allows the applicant to use the ionizing radiation source in the manner requested in the Army radiation permit application and has in place a radiation safety program that complies with applicable Army regulations and host nation laws and regulations.

(h) Applicants and permit holders shall comply with all applicable Federal, state, interstate, and local laws and regulations, status-of-forces agreements (SOFAs), and other international agreements.

(i) Each Army radiation permit will require the permit holder to remove its permitted ionizing radiation sources from Army property prior to the expiration of the permit and restore all real or personal property of the Army that was modified, altered, or otherwise changed as a result of the permit holder's activities to the condition such property was in prior to the effective date of the permit.

(j) An Army radiation permit issued pursuant to this section shall be valid for no more than 12 months.

(k) Disposal of radioactive material by non-Army entities on Army property is prohibited. However, the garrison commander may give written authorization for releases of radioactive material to the atmosphere or to the sanitary sewerage system if such releases are in compliance with all applicable Federal, State, interstate, and local laws and regulations, including but not limited to, the NRC regulations at 10 CFR part 20, Subpart K, or the equivalent requirements of an Agreement State, and regulations issued by the Army or the Department of Defense, to include compliance with any applicable requirement to obtain a permit, license, or other authorization, or to submit any information, notification, or report for such release.

[FR Doc. 2011-2748 Filed 2-7-11; 8:45 am]

BILLING CODE 3710-08-P